DEPARTMENT OF JUSTICE

Notice of Lodging of Consent Decree Under the Comprehensive Environmental Response, Compensation, and Liability Act

Consistent with the policy of 42 U.S.C. 9622(d)(2), notice is hereby given that on January 11, 2006, a proposed Consent Decree in United States v. Daniel Green, et al., Civil Action No. 1:00-cv-637, was lodged with the United States District Court for the Southern District in Ohio.

In this action the United States sought reimbursement of response costs incurred for response actions taken at or in connection with the release or threatened release of hazardous substances at the Green Industries Site in Sharonville, Ohio (“the Site”) pursuant to section 107(a) of the Comprehensive Environmental Response, Compensation and Liability Act (“CERCLA”), 42 U.S.C. 9607(a). The Consent Decree resolves the United States' claims against defendants Daniel Green and the Estate of Maurice Green (“Settling Defendants”) on an inability to pay basis. Resolution of claims against Daniel Green terminates the need for inclusion of Saundra Green in this matter as a Rule 19 defendant. The Settling Defendants will collectively pay $100,000.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Daniel Green, et al., D.J. Ref. 90-11-2-06906.

The Consent Decree may be examined at the Office of the United States Attorney, 221 East Fourth Street, Suite 400, Cincinnati, OH and at U.S. EPA Region 5, 77 West Jackson Blvd., Chicago, IL. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury.

William D. Brighton,
Assistant Section Chief, Environmental Enforcement Section, Environment and Natural Resources Division.

[FR Doc. 06-709 Filed 1-25-06; 8:45 am]

BILLING CODE 4410-15-M